GENERAL SERVICES ADMINISTRATION

[OMB Control No. 3090-0319; Docket No. 2021-0001; Sequence No. 11]

Information Collection; CDP Supply Chain Climate Change Information Request

AGENCY: Office of Government-wide Policy (OGP), General Services Administration (GSA).

ACTION: Notice and request for comments.

SUMMARY: In accordance with the Paperwork Reduction Act of 1995, and the Office of Management and Budget (OMB), GSA will invite the public to comment on a renewal and extension concerning the CDP Supply Chain Climate Change Information Request.

DATES: GSA will consider all comments received by November 16, 2021.

ADDRESSES: Submit comments regarding this burden estimate or any other aspect of this collection of information, including suggestions for reducing this burden to http://www.regulations.gov. Submit comments via the Federal eRulemaking portal by searching for “Information Collection 3090-0319; CDP Supply Chain Climate Change Information Request.” Select the link “Comment Now” that corresponds with “Information Collection 3090-0319; CDP Supply Chain Climate Change Information Request.” Follow the instructions provided on the screen. Please include your name, company name (if any), and “Information Collection 3090-0319; CDP Supply Chain Climate Change Information Request” on your attached document. If your comment cannot be submitted using regulations.gov, call or email the point of contact in the FOR FURTHER INFORMATION CONTACT section of this document for alternate instructions.

Instructions: Please submit comments only and cite “Information Collection 3090-0319; CDP Supply Chain Climate Change Information Request”, in all correspondence related to this collection. Comments received generally will be posted without change to regulations.gov, including any personal and/or business confidential information provided. To confirm receipt of your comment(s), please check regulations.gov, approximately two-to-three days after submission to verify posting.

FOR FURTHER INFORMATION CONTACT: Mr. Jed Ela, Sustainability Advisor, Office of Government-wide Policy, at jed.ela@gsa.gov, 202-854-8804.

SUPPLEMENTARY INFORMATION:

A. Purpose

The CDP Supply Chain Climate Change Information Request is an electronic questionnaire designed to collect information that is widely used by large private and public sector organizations to understand, assess, and mitigate potentially disruptive and costly supply chain risks, investment risks, and environmental impacts. The questionnaire is administered by CDP North America, Inc., a 501(c)(3) nonprofit organization (“CDP”). CDP administers the questionnaire annually on behalf of over 590 institutional investors, 200 major corporations, and several large governmental purchasing organizations in addition to GSA. CDP's most recent annual survey was directed to over 20,000 companies, with over 9,600 electing to respond.

Under previously approved information collection requests, GSA has directed CDP since 2017 to include several hundred major Federal contractors annually among its potential survey respondents. In accordance with 31 U.S. Code § 3512(c)(1)(b), GSA uses information received from these companies via CDP to inform and develop purchasing policies and contract requirements necessary to safeguard Federal assets against waste, loss, and misappropriation resulting from unmitigated exposure to supply chain energy market and environmental risks. GSA also uses the information in accordance with Executive Orders 13990, 14008, and 14030 to inform development of policies and programs to reduce climate risks and greenhouse gas emissions associated with federal procurement activities.

For example, GSA has used CDP information in recent years to perform critical market research in connection with multi-billion-dollar strategic contracting efforts. In one case, GSA determined that data center facilities used by potential network infrastructure providers could be at risk due to flooding, extreme heat, or lack of available cooling water sources, placing Federal client operations at risk. In another case, GSA used information from the CDP survey to research potential contractors' existing risk mitigation and greenhouse gas reduction practices and to design appropriate contract requirements to ensure that contractors assess and mitigate these risks and reduce greenhouse gases associated with their federal contract activities. In another case, GSA determined that energy savings practices available to potential information technology service providers could significantly lower their overhead costs and that this would likely reduce contract costs for GSA and other Federal agencies. GSA uses the information collected to research development of similar policies and programs and to verify contractor compliance with existing programs.

B. Annual Burden Hours

GSA expects to direct CDP to request voluntary survey responses from up to 500 large and medium-sized businesses per year. Estimates of response time per respondent vary greatly depending on whether each requested respondent (a) elects not to respond; (b) responds, but would have responded to CDP regardless of GSA's request (because the respondent was also requested to respond to CDP by other customer and/or investor stakeholders); or (c) responds to CDP because of GSA's request. Analysis of total response time is thus based on estimates for each of these categories.

(a) Requested respondents who elect not to respond. Based on historical CDP response rates and GSA's intended recipients, GSA estimates that 250 out of 500 annual requested respondents will be in this category. Hour burden for this category: 250 non-responses; time per respondent 0; total time 0.

(b) Respondents who would have responded to CDP regardless of GSA's request. These respondents will complete some or all of the collection instrument, but would have done so regardless of GSA's request. In addition, some of these respondents will answer a small number of additional questions (requiring a small fraction of their overall response time to CDP) based on GSA's request. In addition, all of these respondents will need to complete one additional question in order to direct CDP to share their responses with GSA. Based on historical CDP response rates and GSA's intended recipients, GSA estimates that 220 out of 500 annual requested respondents will be in this category. Hour burden for this category: 220 responses; average time per respondent 5 minutes; total burden 18 hours.

(c) Respondents who respond to CDP because of GSA's request. These respondents may need to invest significant time drafting their responses and gathering facts, including searching and compiling existing data sources such as utility bills, and completing and reviewing the collection instrument. Based on historical CDP response rates and GSA's intended recipients, GSA estimates that 30 out of 500 annual requested respondents will be in this category. Based on discussions with several dozen previous respondents to CDP's questionnaire, as well as public input received in response to a related information collection request notice (see 82 FR 3794), time burden for this collection is estimated to average 120 hours per response. Hour burden for this category: 30 responses; average time per respondent 120 hours; total burden 3,600 hours.

Based on the individual category response times above, the total estimated response burden for all 500 requested respondents is summarized below.

Frequency: Annual.

Affected Public: Federal contractors.

Number of Respondents: 500.

Responses per Respondent: 1.

Total Annual Responses: 250.

Estimated Time Per Respondent: 14.5.

Total Burden Hours: 3,618.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Beth Anne Killoran,
Deputy Chief Information Officer.

[FR Doc. 2021-20140 Filed 9-16-21; 8:45 am]

BILLING CODE 6820-14-P